DEPARTMENT OF HEALTH AND HUMAN SERVICES

National Institutes of Health

National Institute on Deafness and Other Communication Disorders; Amended Notice of Meeting

Notice is hereby given of a change in the meeting of the Communication Disorders Review Committee, June 11, 2020, 08:00 a.m. to June 12, 2020, 05:00 p.m., Embassy Suites—Chevy Chase Pavilion, 4300 Military Road NW, Washington, DC 20015 which was published in the Federal Register on January 13, 2020, 85 FR 1816.

This notice is being amended to change the meeting location from in person to a virtual meeting. The meeting is closed to the public.

Dated: May 7, 2020.
Miguelina Perez,
Program Analyst, Office of Federal Advisory Committee Policy.

[FR Doc. 2020-10127 Filed 5-11-20; 8:45 am]

BILLING CODE 4140-01-P